DEPARTMENT OF THE INTERIOR

Bureau of Safety and Environmental Enforcement (BSEE)

[Docket ID BSEE-2016-0005; OMB Control Number 1014-0010; 16XE1700DX EEEE500000 EX1SF0000.DAQ000]

Information Collection Activities: Decommissioning Activities, Proposed Collection; Comment Request

ACTION: 60-Day notice.

SUMMARY: To comply with the Paperwork Reduction Act of 1995 (PRA), BSEE is inviting comments on a collection of information that we will submit to the Office of Management and Budget (OMB) for review and approval. The information collection request (ICR) concerns a renewal to the paperwork requirements in the regulations under Subpart Q, Decommissioning Activities.

DATES: You must submit comments by July 18, 2016.

ADDRESSES: You may submit comments by either of the following methods listed below.

• Electronically go to http://www.regulations.gov. In the Search box, enter BSEE-2016-0005 then click search. Follow the instructions to submit public comments and view all related materials. We will post all comments.

• Email nicole.mason@bsee.gov. Mail or hand-carry comments to the Department of the Interior; BSEE; Regulations and Standards Branch; Attention: Nicole Mason; 45600 Woodland Road, Sterling, Virginia 20166. Please reference ICR 1014-0010 in your comment and include your name and return address.

FOR FURTHER INFORMATION CONTACT: Nicole Mason, Regulations and Standards Branch at (703) 787-1607 to request additional information about this ICR.

SUPPLEMENTARY INFORMATION:

Title: 30 CFR part 250, subpart Q, Decommissioning Activities.

OMB Control Number: 1014-0010.

Abstract: The Outer Continental Shelf (OCS) Lands Act, as amended (43 U.S.C. 1331 et seq. and 43 U.S.C. 1801 et seq.), authorizes the Secretary of the Interior to prescribe rules and regulations necessary for the administration of the leasing provisions of that Act related to mineral resources on the OCS. Such rules and regulations will apply to all operations conducted under a lease, right-of-way, or a right-of-use and easement. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

Section 1332(6) states that “operations in the [O]uter Continental Shelf should be conducted in a safe manner by well trained personnel using technology, precautions, and other techniques sufficient to prevent or minimize the likelihood of blowouts, loss of well control, fires, spillages, physical obstructions to other users of the waters or subsoil and seabed, or other occurrences which may cause damage to the environment or to property or endanger life or health.”

In addition to the general rulemaking authority of the OCSLA at 43 U.S.C. 1334, section 301(a) of the Federal Oil and Gas Royalty Management Act (FOGRMA), 30 U.S.C. 1751(a), grants authority to the Secretary to prescribe such rules and regulations as are reasonably necessary to carry out FOGRMA's provisions. While the majority of FOGRMA is directed to royalty collection and enforcement, some provisions apply to offshore operations. For example, section 108 of FOGRMA, 30 U.S.C. 1718, grants the Secretary broad authority to inspect lease sites for the purpose of determining whether there is compliance with the mineral leasing laws. Section 109(c)(2) and (d)(1), 30 U.S.C. 1719(c)(2) and (d)(1), impose substantial civil penalties for failure to permit lawful inspections and for knowing or willful preparation or submission of false, inaccurate, or misleading reports, records, or other information. Because the Secretary has delegated some of the authority under FOGRMA to BSEE, 30 U.S.C. 1751 is included as additional authority for these requirements.

The Independent Offices Appropriations Act (31 U.S.C. 9701), the Omnibus Appropriations Bill (Pub. L. 104-133, 110 Stat. 1321, April 26, 1996), and OMB Circular A-25, authorize Federal agencies to recover the full cost of services that confer special benefits. Respondents pay cost recovery fees when removing a platform or other facility, or for decommissioning a pipeline lease term or a right-of-way.

This authority and responsibility are among those delegated to BSEE. The regulations at 30 CFR 250, Subpart Q, concern decommissioning of platforms, wells, and pipelines, as well as site clearance and platform removal and are the subject of this collection. This request also covers the related Notices to Lessees and Operators (NTLs) that BSEE issues to clarify, supplement, or provide additional guidance on some aspects of our regulations.

Regulations at 30 CFR 250, Subpart Q, implement these statutory requirements. We use the information for the following reasons:

• To determine the necessity for allowing a well to be temporarily abandoned, the lessee/operator must demonstrate that there is a reason for not permanently abandoning the well, and the temporary abandonment will not constitute a significant threat to fishing, navigation, or other uses of the seabed. We use the information and documentation to verify that the lessee is diligently pursuing the final disposition of the well, and the lessee has performed the temporary plugging of the wellbore.

• The information submitted in initial decommissioning plans in the Alaska and Pacific OCS Regions will permit BSEE to become involved on the ground floor planning of platform removals anticipated to occur in these OCS regions.

• Site clearance and platform or pipeline removal information ensures that all objects (wellheads, platforms, etc.) installed on the OCS are properly removed using procedures that will protect marine life and the environment during removal operations, and the site cleared so as not to conflict with or harm other uses of the OCS.

• Decommissioning a pipeline in place is needed to ensure that it will not constitute a hazard to navigation and commercial fishing operations, unduly interfere with other uses of the OCS, or have adverse environmental effects.

• Verify that decommissioning activities comply with approved applications and procedures and are satisfactorily completed.

• The information is used to evaluate and approve the adequacy of the equipment, materials, and/or procedures that the lessee or operator plans to use during well modifications and changes in equipment, etc.

• The information will help BSEE better estimate future decommissioning costs for OCS leases, rights-of-way, and rights of use and easements. BSEE's future decommissioning cost estimates may then be used by BOEM to set necessary financial assurance levels to minimize or eliminate the possibility that the government will incur abandonment liability.

We will protect information from respondents considered proprietary under the Freedom of Information Act (5 U.S.C. 552) and its implementing regulations (43 CFR part 2) and under regulations at 30 CFR 250.197, Data and information to be made available to the public or for limited inspection. No items of a sensitive nature are collected. Responses are mandatory.

Frequency: On occasion.

Description of Respondents: Potential respondents comprise Federal oil, gas, or sulphur lessees and/or operators and holders of pipeline rights-of-way.

Estimated Reporting and Recordkeeping Hour Burden: The currently approved annual reporting burden for this collection is 29,437 hours and $2,152,644 non-hour costs. In this submission, we are requesting a total of 29,318 burden hours and $2,154,320 non-hour cost burdens. The following chart details the individual components and respective hour burden estimates of this ICR. In calculating the burdens, we assumed that respondents perform certain requirements in the normal course of their activities. We consider these to be usual and customary and took that into account in estimating the burden.

Burden Breakdown
[L/T = Lease Term, ROW = Right of Way]
Citation 30 CFR 250 Subpart Q | Reporting requirement | Non-hour cost burdens: Hour burden | Non-hour cost burdens: Average number of annual responses | Non-hour cost burdens: Annual burden hours (rounded)
General
1704(g); 1706(a), (f); 1707(d), (h) 1709; 1712; 1715; 1716; 1717; 1721(a),(d), (f)-(h); 1722(a), (b), (d); 1723(b); 1743(a); | These sections contain references to information, approvals, requests, payments, etc., which are submitted with an APM, the burdens for which are covered under its own information collection | APM burden covered under 1014-0026
1700 thru 1754 | General departure and alternative compliance requests not specifically covered elsewhere in Subpart Q regulations | 4 | 175 requests | 700
1703; 1704 | Request approval for decommissioning | Burden included below |  | 0
1704(h), (i) | Submit to BSEE, within 120 days after completion of each decommissioning activity, a summary of expenditures incurred; any additional information that will support and/or verify the summary | 1 | 820 summaries/additional information | 820
1705 | Submit a description of your blowout preventer (BOP) and its components; schematic drawings; independent third party verification and all supporting information (evidence showing appropriate licenses, has expertise/experience necessary to perform required verifications, etc.) | 29 | 250 submittals | 7,250
1705(e)(2) | Allow BSEE access to witness testing, inspections, and information verification. Notify District Manager at least 72 hours prior to shearing ram tests | 0.5 | 10 submittals | 5
1707(a)(2) | Request approval from District Manager to test all BOP system components to rated working pressure; annular BOP less than 70 percent rated working pressure | 0.5 | 10 requests | 5
1707(b)(2) | State reason for postponing test in operations logs | 0.5 | 30 responses | 15
1707(b)(2) | Request approval from District Manager for alternate test frequencies if condition/BOP warrant | 0.75 | 10 requests | 8
1707(f) | Request alternative method to record test pressures | 0.5 | 20 requests | 10
1707(f) | Record test pressures during BOP and coiled tubing on a pressure chart or w/digital recorder; certify charts are correct | 1 | 250 records/certifications | 250
1707(g) | Record or reference in operations log all pertinent information listed in this requirement; make all documents pertaining to BOP tests, actuations and inspections available for BSEE review at facility for duration of well abandonment activity; retain all records for 2 years at a location conveniently available for the District Manager | 1 | 250 records | 250
1708(a), (b) | Document BOP inspection and maintenance procedures used; record results of BOP inspections and maintenance actions; maintain records for 2 years or longer if directed by BSEE; make available to BSEE upon request | 1 | 75 records | 75
1708(a) | Request alternative method to inspect marine risers | 0.5 | 5 requests | 3
Subtotal |  |  | 1,905 responses | 9,391
Permanently Plugging Wells
1711 | Required data if permanently plugging a well | Requirement not considered Information Collection under 5 CFR 1320.3(h)(9) |  | 0
1713 | Notify BSEE 48 hours before beginning operations to permanently plug a well | 0.5 | 700 notices | 350
Subtotal |  |  | 700 responses | 350
Temporary Abandoned Wells
1721(e); 1722(e), (h)(1); 1741(c) | Identify and report subsea wellheads, casing stubs, or other obstructions; mark wells protected by a dome; mark location to be cleared as navigation hazard | U.S. Coast Guard requirements |  | 0
1722(c), (g)(2) | Notify BSEE within 5 days if trawl does not pass over protective device or causes damages to it; or if inspection reveals casing stub or mud line suspension is no longer protected | 1 | 10 notices | 10
1722(f), (g)(3) | Submit annual report on plans for re-entry to complete or permanently abandon the well and inspection report | 2.5 | 95 reports | 238
1722(h) | Request waiver of trawling test | 1.5 | 5 requests | 8
Subtotal |  |  | 110 responses | 256
Removing Platforms and Other Facilities
1726; 1704(a) | Submit initial decommissioning application in the Pacific and Alaska OCS Regions | 20 | 2 applications | 40
1725; 1727; 1728; 1730; 1704(b) | Submit final application and appropriate data to remove platform or other subsea facility structures (including alternate depth departure) or approval to maintain, to conduct other operations, or to convert to artificial reef | 28 | 327 applications | 9,156
|  | $4,684 fee × 327 = $1,531,668
1725(e) | Notify BSEE 48 hours before beginning removal of platform and other facilities | 0.5 | 277 notices | 139
1729; 1704(c) | Submit post platform or other facility removal report; supporting documentation; signed statements, etc | 9.5 | 277 reports | 2,632
1731(c) | Request deferral of facility removal subject to RUE issued under 30 CFR 556 | 1.75 | 50 request | 88
Subtotal |  |  | 933 responses | 12,055
|  | $1,531,668 Non-Hour Cost Burdens
Site Clearance for Wells, Platforms, and Other Facilities
1740; 1741(g) | Request approval to use alternative methods of well site, platform, or other facility clearance; contact pipeline owner/operator before trawling to determine its condition | 12.75 | 75 requests/contact | 956
1743(b); 1704(f) | Verify permanently plugged well, platform, or other facility removal site cleared of obstructions; supporting documentation; and submit certification letter | 5 | 299 verifications | 1,495
Subtotal |  |  | 374 responses | 2,451
Pipeline Decommissioning
1750; 1751; 1752; 1754; 1704(d) | Submit application to decommission pipeline in place or remove pipeline (L/T or ROW) | 10 | 226 applications | 2,260
|  | $1,142 L/T decommission fee × 226 = $258,092
|  | 10 | 168 | 1,680
|  | $2,170 ROW decommissioning fees × 168 = $364,560
1753; 1704(e) | Submit post pipeline decommissioning report | 2.5 | 350 reports | 875
Subtotal |  |  | 744 responses | 4,815
|  | $622,652 non-hour cost burdens
Total Burden |  |  | 4,766 Responses | 29,318
|  |  | $2,154,320 Non-Hour Cost Burdens

Estimated Reporting and Recordkeeping Non-Hour Cost Burden: We have identified three non-hour paperwork cost burdens for this collection. Respondents pay cost recovery fees when removing a platform or other facility under § 250.1727 for $4,684, or for decommissioning a pipeline under § 250.1751(a)—L/T for $1,142 or a ROW for $2,170. The fees are required to recover the Federal Government's processing costs, and we have not identified any others. We estimate a total reporting non-hour cost burden of $2,154,320 for this collection.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “. . . to provide notice . . . and otherwise consult with members of the public and affected agencies concerning each proposed collection of information . . .”. Agencies must specifically solicit comments to: (a) Evaluate whether the collection is necessary or useful; (b) evaluate the accuracy of the burden of the proposed collection of information; (c) enhance the quality, usefulness, and clarity of the information to be collected; and (d) minimize the burden on the respondents, including the use of technology.

Agencies must also estimate the non-hour paperwork cost burdens to respondents or recordkeepers resulting from the collection of information. Therefore, if you have other than hour burden costs to generate, maintain, and disclose this information, you should comment and provide your total capital and startup cost components or annual operation, maintenance, and purchase of service components. For further information on this burden, refer to 5 CFR 1320.3(b)(1) and (2), or contact the Bureau representative listed previously in this notice.

We will summarize written responses to this notice and address them in our submission for OMB approval. As a result of your comments, we will make any necessary adjustments to the burden in our submission to OMB.

Public Comment Procedures: Before including your address, phone number, email address, or other personal identifying information in your comment, you should be aware that your entire comment—including your personal identifying information—may be made publicly available at any time. While you can ask us in your comment to withhold your personal identifying information from public review, we cannot guarantee that we will be able to do so.

BSEE Information Collection Clearance Officer: Nicole Mason, (703) 787-1607.

Dated: May 13, 2016.
Robert W. Middleton,
Deputy Chief, Office of Offshore Regulatory Programs.

[FR Doc. 2016-11829 Filed 5-18-16; 8:45 am]

BILLING CODE 4310-VH-P